DEPARTMENT OF TRANSPORTATION

Federal Aviation Administration

14 CFR Part 39

[Docket No. FAA-2005-20970; Directorate Identifier 2004-NM-53-AD; Amendment 39-14511; AD 2006-06-03]

RIN 2120-AA64

Airworthiness Directives; Cessna Model 500, 501, 550, S550, 551, and 560 Airplanes

AGENCY: Federal Aviation Administration (FAA), Department of Transportation (DOT).

ACTION: Final rule.

SUMMARY: The FAA is adopting a new airworthiness directive (AD) for certain Cessna Model 500, 501, 550, S550, 551, and 560 airplanes. This AD requires revising the airplane flight manual (AFM) to prohibit use of the wing fuel boost pumps for defueling under certain conditions; installing a placard; doing other specified investigative and corrective actions as necessary; and modifying the boost pumps. This AD also requires the subsequent removal of the AFM revision and placard. This AD results from a report of a chafed electrical wiring harness, which was arcing inside the fuel tank. We are issuing this AD to prevent potential fuel vapor ignition in a fuel tank, which could result in explosion and loss of the airplane.

DATES: This AD becomes effective April 20, 2006.

The Director of the Federal Register approved the incorporation by reference of certain publications listed in the AD as of April 20, 2006.

ADDRESSES: You may examine the AD docket on the Internet at http://dms.dot.gov or in person at the Docket Management Facility, U.S. Department of Transportation, 400 Seventh Street SW., Nassif Building, Room PL-401, Washington, DC.

Contact Cessna Aircraft Co., P.O. Box 7706, Wichita, Kansas 67277, for service information identified in this AD.

FOR FURTHER INFORMATION CONTACT: Bryan Easterwood, Aerospace Engineer, Electrical Systems and Avionics Branch, ACE-119W, Wichita Aircraft Certification Office, FAA, 1801 Airport Road, room 100, Mid-Continent Airport, Wichita, Kansas 67209; telephone (316) 946-4132; fax (316) 946-4107.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Cessna Model 500, 501, 550, S550, 551, and 560 airplanes. That supplemental NPRM was published in the Federal Register on October 25, 2005 (70 FR 61580). That supplemental NPRM proposed to require revising the airplane flight manual (AFM) to prohibit use of the wing fuel boost pumps for defueling under certain conditions; installing a placard; doing other specified investigative and corrective actions as necessary; and modifying the boost pumps. That supplemental NPRM also would have required the subsequent removal of the AFM revision and placard.

Comments

We provided the public the opportunity to participate in the development of this AD. No comments have been received on the supplemental NPRM or on the determination of the cost to the public.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Costs of Compliance

There are about 2,397 airplanes of the affected design in the worldwide fleet; of these, 1,762 airplanes are U.S.-registered. The following table provides the estimated costs for U.S. operators to comply with this AD.

Estimated Costs
Applicable service bulletin | Work hours | Average hourly labor rate | Parts | Cost per airplane | Number of U.S.-registered airplanes | Fleet cost
SB500-28-12 | 20 | $65 | $2,229 | $3,529 | 444 | $1,566,876
SBS550-28-08 | 12 | 65 | 102 | 882 | 126 | 111,132
SB550-28-14 | 8 | 65 | 1,992 | 2,512 | 469 | 1,178,128
SB550-28-15 | 8 | 65 | 1,936 | 2,456 | 194 | 476,464
SB560-28-10 | 12 | 65 | 1,949 | 2,729 | 428 | 1,168,012
SB560-28-11 | 8 | 65 | 1,052 | 1,572 | 101 | 158,772

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-06-03 Cessna Aircraft Company: Amendment 39-14511. Docket No. FAA-2005-20970; Directorate Identifier 2004-NM-53-AD.

Effective Date

(a) This AD becomes effective April 20, 2006.

Affected ADs

(b) None.

Applicability

(c) This AD applies to the Cessna airplanes listed in Table 1 of this AD, certificated in any category.

Table 1.—Applicability
Airplane model(s) | Serial Nos.
500 and 501 | 0001 through 0689 inclusive.
S550 | 0001 through 0160 inclusive.
550 and 551 | 0002 through 0733 inclusive.
550 | 0801 through 1075 inclusive.
560 | 0001 through 0648 inclusive.

Unsafe Condition

(d) This AD was prompted by a report of a chafed electrical wiring harness, which was arcing inside the fuel tank. We are issuing this AD to prevent potential fuel vapor ignition in a fuel tank, which could result in explosion and loss of the airplane.

Compliance

(e) You are responsible for having the actions required by this AD performed within the compliance times specified, unless the actions have already been done.

Service Information

(f) The term “service bulletin” as used in this AD refers to the applicable service bulletin listed in Table 2 of this AD.

Table 2.—Service Information
For Cessna model— | Having serial Nos.— | Use Cessna service bulletin— | Dated—
500 and 501 airplanes | 0001-0689 | SB500-28-12 | June 14, 2004.
S550 airplanes | 0001-0160 | SBS550-28-08 | May 7, 2004.
550 and 551 airplanes | 0002-0733 | SB550-28-14 | December 2, 2003.
550 airplanes | 0801-1075 | SB550-28-15 | January 20, 2004.
560 airplanes | 0001-0538 | SB560-28-10 | April 23, 2004.
560 airplanes | 0539-0648 | SB560-28-11 | March 12, 2004.

AFM Revision

(g) Within 25 flight hours after the effective date of this AD: Revise the Limitations section of the applicable Cessna airplane flight manual (AFM) to prohibit use of the wing fuel boost pumps for defueling under certain conditions, by inserting the applicable temporary change identified in Cessna Service Bulletin SB550-28-14, dated December 2, 2003, or identified in Table 3 of this AD.

Table 3.—Temporary Changes
Cessna temporary change— | Dated— | To the—
500FM TC-R57-01 | April 5, 2004 | Cessna Model 500 AFM.
500FM TC-R57-02 | April 5, 2004 | Cessna Model 500 AFM.
500FM TC-R57-03 | April 5, 2004 | Cessna Model 500 AFM.
55BFM TC-R10-07 | March 17, 2004 | Cessna Model 550 Citation Bravo AFM.
55BFM TC-R10-08 | March 17, 2004 | Cessna Model 550 Citation Bravo AFM.
55BFM TC-R10-09 | March 17, 2004 | Cessna Model 550 Citation Bravo AFM.
560FM TC-RC13-01 | March 4, 2004 | Cessna Model 560 Citation V AFM.
560FM TC-RC13-02 | March 4, 2004 | Cessna Model 560 Citation V AFM.
560FM TC-RC13-03 | March 4, 2004 | Cessna Model 560 Citation V AFM.
56FMA TC-04-01 | March 4, 2004 | Cessna Model 560 CItation Ultra AFM.
56FMA TC-04-02 | March 4, 2004 | Cessna Model 560 Citation Ultra AFM.
56FMA TC-04-03 | March 4, 2004 | Cessna Model 560 Citation Ultra AFM.
56FMB TC-R03-10 | March 12, 2004 | Cessna Model 560 AFM.
56FMB TC-R03-11 | March 12, 2004 | Cessna Model 560 AFM.
56FMB TC-R03-12 | March 12, 2004 | Cessna Model 560 AFM.
S55CA TC-04-01 | July 8, 2004 | Cessna Model S550 Citation S/II AFM.
S55CA TC-04-02 | July 8, 2004 | Cessna Model S550 Citation S/II AFM.
S55CA TC-04-03 | July 8, 2004 | Cessna Model S550 Citation S/II AFM.
S55FM TC-04-01 | March 4, 2004 | Cessna Model S550 Citation S/II AFM.
S55FM TC-04-02 | March 4, 2004 | Cessna Model S550 Citation S/II AFM.
S55FM TC-04-03 | March 4, 2004 | Cessna Model S550 Citation S/II AFM.

Placard Installation

(h) Within 25 flight hours after the effective date of this AD: Install a placard close to the fuel quantity gauge, in accordance with the Accomplishment Instructions of the service bulletin. In addition to the specifications in the service bulletin, the letters on the placard must be at least ¼-inch tall.

Inspection and Modification

(i) Within 300 flight hours after the effective date of this AD: Do the actions specified in paragraphs (i)(1) and (i)(2) of this AD in accordance with the Accomplishment Instructions of the service bulletin.

(1) Do a detailed inspection for chafed wiring of the wing fuel boost pumps, and, before further flight thereafter, do all applicable corrective and other specified actions.

(2) Modify the wing fuel boost pumps.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(j) Before further flight after the inspection and modification required by paragraph (i) of this AD, remove the AFM temporary change and placard required by paragraphs (g) and (h) of this AD.

Reporting Clarification

(k) Although the service bulletin specifies to submit certain information to the manufacturer, this AD does not include that requirement.

Alternative Methods of Compliance (AMOCs)

(l)(1) The Manager, Wichita Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(m) You must use the service information listed in Tables 4 and 5 of this AD, as applicable, to perform the actions that are required by this AD, unless the AD specifies otherwise. The Director of the Federal Register approved the incorporation by reference of these documents in accordance with 5 U.S.C. 552(a) and 1 CFR part 51. Contact Cessna Aircraft Co., P.O. Box 7706, Wichita, Kansas 67277, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—Service Bulletins
Cessna service bulletin— | Dated—
SB500-28-12 | June 14, 2004.
SBS550-28-08 | May 7, 2004.
SB550-28-14 | December 2, 2003.
SB550-28-15 | January 20, 2004.
SB560-28-10 | April 23, 2004.
SB560-28-11 | March 12, 2004.

Table 5.—Temporary Changes
Cessna temporary change— | Dated— | To the—
500FM TC-R57-01 | April 5, 2004 | Cessna Model 500 AFM.
500FM TC-R57-02 | April 5, 2004 | Cessna Model 500 AFM.
500FM TC-R57-03 | April 5, 2004 | Cessna Model 500 AFM.
55BFM TC-R10-07 | March 17, 2004 | Cessna Model 550 Citation Bravo AFM.
55BFM TC-R10-08 | March 17, 2004 | Cessna Model 550 Citation Bravo AFM.
55BFM TC-R10-09 | March 17, 2004 | Cessna Model 550 Citation Bravo AFM.
560FM TC-R13-01 | March 4, 2004 | Cessna Model 560 Citation V AFM.
560FM TC-R13-02 | March 4, 2004 | Cessna Model 560 Citation V AFM.
560FM TC-R13-03 | March 4, 2004 | Cessna Model 560 Citation V AFM.
56FMA TC-04-01 | March 4, 2004 | Cessna Model 560 Citation Ultra AFM.
56FMA TC-04-02 | March 4, 2004 | Cessna Model 560 Citation Ultra AFM.
56FMA TC-04-03 | March 4, 2004 | Cessna Model 560 Citation Ultra AFM.
56FMB TC-R03-10 | March 12, 2004 | Cessna Model 560 AFM.
56FMB TC-R03-11 | March 12, 2004 | Cessna Model 560 AFM.
56FMB TC-R03-12 | March 12, 2004 | Cessna Model 560 AFM.
S55CA TC-04-01 | July 8, 2004 | Cessna Model S550 Citation S/II AFM.
S55CA TC-04-02 | July 8, 2004 | Cessna Model S550 Citation S/II AFM.
S55CA TC-04-03 | July 8, 2004 | Cessna Model S550 Citation S/II AFM.
S55FM TC-04-01 | March 4, 2004 | Cessna Model S550 Citation S/II AFM.
S55FM TC-04-02 | March 4, 2004 | Cessna Model S550 Citation S/II AFM.
S55FM TC-04-03 | March 4, 2004 | Cessna Model S550 Citation S/II AFM.

Issued in Renton, Washington, on March 3, 2006.
Kalene C. Yanamura,
Acting Manager, Transport Airplane Directorate, Aircraft Certification Service.

[FR Doc. 06-2408 Filed 3-15-06; 8:45 am]

BILLING CODE 4910-13-P